DEPARTMENT OF HEALTH AND HUMAN SERVICES

Indian Health Service

Agency Information Collection Activities: Fast Track Generic Clearance for the Collection of Qualitative Feedback on Agency Service Delivery: IHS Web Site Customer Service Satisfaction Survey

AGENCY: Indian Health Service, HHS.

ACTION: 30-Day notice of submission of information collection approval from the Office of Management and Budget (OMB) and request for comments.

SUMMARY: As part of a Federal Government-wide effort to streamline the process to seek feedback from the public on service delivery, Indian Health Service has submitted a Generic Information Collection Request (Generic ICR): “Generic Clearance for the Collection of Qualitative Feedback on Agency Service Delivery” to OMB for approval under the Paperwork Reduction Act (PRA) (44 U.S.C. 3501 et seq.).

DATES: Comments must be submitted by February 10, 2012.

ADDRESSES: Send your written comments and suggestions regarding the proposed information collection contained in this notice, especially regarding the estimated public burden and associated response time to: Office of Management and Budget, Office of Regulatory Affairs, Attention: Desk Officer for IHS, New Executive Office Building, Room 10235, Washington, DC 20503.

Send Requests for Further Information: Requests for more information on the proposed collection or requests to obtain a copy of the data collection instrument(s) and instructions may be directed to Tamara Clay, Acting Reports Clearance Officer, 801 Thompson Avenue, TMP, Suite 450, Rockville, MD 20852; via non-toll free phone (301) 443-4750; via facsimile to (301) 443-9879; or via email to tamara.clay@ihs.gov.

SUPPLEMENTARY INFORMATION: Title: Generic Clearance for the Collection of Qualitative Feedback on Agency Service Delivery: IHS Web site Customer Service Satisfaction Survey.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

In the Federal Register Notice of December 22, 2010 (75 FR 80542), OMB published a 60-day notice requesting public comment on the proposed collection of information. The Agency received zero (0) comments in response to the 60 day notice. Below we provide Indian Health Service's projected annual average estimates for the next three years: ¹

¹ The 60-day notice included the following estimate of the aggregate burden hours for this generic clearance federal-wide:

Average Expected Annual Number of activities: 25,000.

Average number of Respondents per Activity: 200.

Annual Responses: 5,000,000.

Frequency of Response: Once per request.

Average minutes per response: 30.

Burden hours: 2,500,000.

Current Actions: New collection of Information.

Type of Review: New Collection.

Affected Public: Individuals and Households, Businesses and Organizations, State, Local or Tribal Government.

Average Expected Annual Number of Activities: 1.

Respondents: 500.

Annual Responses: 500.

Frequency of Response: Once per request.

Average Minutes per Response: 15 minutes.

Burden Hours: 125 hours.

IHS estimates the burden of this collection of information as follows:

Table 1—Estimated Annual Reporting Burden
Type of collection | Number of respondents | Number of responses per respondent | Average burden per response (in hours) ² | Total hours
Web site Customer satisfaction survey (web-based) | 500 | 1 | 15/60 | 125
Total | 500 | 1 | 15/60 | 125

An agency may not conduct or sponsor, and a person is not required to respond to, a collection of information unless it displays a currently valid OMB control number.

² Burden estimates of less than one hour are expressed as a fraction of an hour in the format “[number of minutes per response]/60”.

Comment Due Date: Your comments regarding this information collection are best assured of having full effect if received within 30 days of the date of this publication.

Dated: December 11, 2011.
Yvette Roubideaux,
Director, Indian Health Service.

[FR Doc. 2012-396 Filed 1-10-12; 8:45 am]

BILLING CODE 4165-16-P